DEPARTMENT OF ENERGY

Notice of Availability of Preliminary List of Potential National Interest Electric Transmission Corridors; Request for Comments

AGENCY: Grid Deployment Office, Department of Energy.

ACTION: Notice of availability of preliminary list; request for comments.

SUMMARY: The U.S. Department of Energy (DOE) gives notice of availability of the preliminary list of potential National Interest Electric Transmission Corridors (NIETCs). This issuance initiates Phase 2 of the NIETC designation process outlined in the guidance DOE released on December 19, 2023. NIETC designation focuses public and policymaker attention on the areas of greatest transmission need and unlocks valuable Federal financing and permitting tools to advance transmission development. Additional information on one of those tools—Transmission Facility Financing—is also included with the preliminary list.

DATES: Interested parties may submit comments on the preliminary list of potential NIETCs and information and recommendations focused on those potential NIETCs based on the list of information requested for Phase 2 in the NIETC Guidance by 5:00 p.m. ET on June 24, 2024.

FOR FURTHER INFORMATION CONTACT: Gretchen Kershaw, U.S. Department of Energy, Grid Deployment Office, at (202) 586-2006; or NIETC@hq.doe.gov.

SUPPLEMENTARY INFORMATION: DOE's Grid Deployment Office (GDO) is announcing the availability of the Initiation of Phase 2 of National Interest Electric Transmission Corridor (NIETC) Designation Process: Preliminary List of Potential NIETCs. Section 216(a)(2) of the Federal Power Act (FPA), as amended by section 40105 of the Infrastructure Investment and Jobs Act (IIJA), requires DOE to issue a report not less frequently than once every three years, which may designate as a NIETC any geographic area that is experiencing or is expected to experience electric energy transmission capacity constraints or congestion that adversely affects consumers. DOE must base any NIETC designation on the findings of DOE's triennial nationwide study required by FPA section 216(a)(1), which DOE refers to as the National Transmission Needs Study (Needs Study), or other information relating to electric energy transmission capacity constraints or congestion. In addition, the FPA requires DOE to consider alternatives and recommendations from interested parties (including an opportunity for comment from affected States and Indian Tribes) and to consult with regional entities when designating a NIETC. FPA section 216(a)(4) allows DOE to also consider several additional factors in designating a NIETC.

On December 19, 2023, DOE released final guidance (NIETC Guidance) that describes DOE's intended implementation of this statutory authority and initiated the process for designating one or more NIETCs following issuance of the Needs Study released in October 2023. The NIETC Guidance sets forth a four-phase process, which begins with DOE evaluating the results of the most recent Needs Study to begin identifying potential geographic areas for NIETC designation and concurrent 45-day Phase 1 information submission window. During this window, interested parties may submit information and recommendations on the narrow geographic boundaries of potential NIETCs, the present or expected transmission capacity constraints or congestion within those geographic boundaries, and the relevant discretionary factors in FPA section 216(a)(4). For this iteration of the NIETC designation process, that window opened with issuance of the final guidance on December 19, 2023, and closed on February 2, 2024.

Phase 2 of the NIETC designation process begins with DOE's issuance of a preliminary list of potential NIETCs, which is the subject of this notice. The preliminary list identifies which potential NIETCs DOE is continuing to consider, provides a high-level explanation of the basis for those potential NIETCs, and opens a public comment period to gather information specific to the listed potential NIETCs. DOE may narrow the list of potential NIETCs as the designation process proceeds to Phase 3. DOE plans to prioritize which potential NIETCs move to Phase 3 based on the available information on geographic boundaries and potential impacts on environmental, community, and other resources and preliminary review of comments. During Phase 3, DOE continues to independently assess the basis for NIETC designation, initiates any needed environmental reviews, and conducts robust public engagement, culminating in the release of one or more draft designation reports and draft environmental documents, as needed, for public comment. Phase 4 is the conclusion of the NIETC designation process, with issuance of one or more final designation reports and final environmental documents, as needed.

The preliminary list of potential NIETCs was informed by numerous Phase 1 information submissions and recommendations from interested parties and DOE's internal preliminary analysis of known possible environmental, community, and other resource impacts. DOE preliminarily finds that the geographic areas depicted in the preliminary list of potential NIETCs constitute targeted, high-priority areas where NIETC designation is likely to catalyze transmission development to alleviate transmission capacity constraints or congestion and the associated adverse effects on consumers, thereby making the most efficient and effective use of DOE's resources. DOE intends to employ NIETC designation in one or more of these geographic areas to further the timely buildout of a reliable, resilient, and efficient transmission system that facilitates the achievement of national energy policy goals while reducing consumer energy costs.

During the 45-day comment period on the preliminary list of potential NIETCs, DOE invites interested parties to comment on the information contained within the preliminary list of potential NIETCs. This includes commenting on the present or expected transmission capacity constraints or congestion relevant to the potential NIETCs in the preliminary list as well as the adverse effects on consumers resulting therefrom (i.e., the consumer harms resulting from inadequate transmission within the potential NIETCs).

In addition, DOE invites interested parties to submit further information on the thirteen resource report categories listed in the NIETC Guidance for Phase 2: (1) geographic boundaries; (2) water use and quality; (3) fish, wildlife, and vegetation; (4) cultural resources; (5) socioeconomics; (6) Tribal resources; (7) communities of interest; (8) geological resources; (9) soils; (10) land use, recreation, and aesthetics; (11) air quality and environmental noise; (12) alternatives; and (13) reliability and safety. The Phase 2 information submission window is focused on gathering additional information on geographic boundaries and potential impacts on environmental, community, and other resources to facilitate DOE's environmental review, which starts in Phase 3. Interested parties may submit information related to one or more of the thirteen categories listed.

NIETC designation focuses public and policymaker attention on the areas of greatest transmission need and unlocks valuable federal financing and permitting tools to advance transmission development. These include DOE authorities under the IIJA, the Inflation Reduction Act, and the Energy Policy Act of 2005, as well as the Federal Energy Regulatory Commission's permitting authority under FPA section 216(b). Additional information on one of those tools—Transmission Facility Financing—is included with the preliminary list of potential NIETCs, including eligibility criteria. DOE invites input on the scope of eligible projects, as explained further in the document.

Members of the public can visit GDO's website to access the preliminary list of potential NIETCs at: https://www.energy.gov/gdo/national-interest-electric-transmission-corridor-designation-process. Additionally, the NIETC Guidance remains available at: https://www.energy.gov/sites/default/files/2023-12/2023-12-15%20GDO%20NIETC%20Final%20Guidance%20Document.Vpdf.

Signing Authority

This document of the Department of Energy was signed on May 7, 2024, by Maria D. Robinson, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. The administrative process in no way alters the legal effect of this document upon publication in the Federal Register.

Signed in Washington, DC, on May 7, 2024.
Treena V. Garrett,
Federal Register Liaison Officer, U.S. Department of Energy.

[FR Doc. 2024-10251 Filed 5-9-24; 8:45 am]

BILLING CODE 6450-01-P